DEPARTMENT OF COMMERCE

Foreign-Trade Zones Board

[Docket 72-2011]

Foreign-Trade Zone 61—San Juan, Puerto Rico; Application for Expansion

An application has been submitted to the Foreign-Trade Zones Board (the Board) by the Puerto Rico Trade and Export Company, grantee of FTZ 61, requesting authority to expand the zone to include a site in Aguadilla, Puerto Rico. The application was submitted pursuant to the provisions of the Foreign-Trade Zones Act, as amended (19 U.S.C. 81a-81u), and the regulations of the Board (15 CFR part 400). It was formally filed on November 9, 2011.

FTZ 61 was approved on October 20, 1980 (Board Order 165, 45 FR 71408, 10/28/80). The zone was expanded on September 28, 2007 (Board Order 1528, 72 FR 56723, 10/4/07) and on July 8, 2010 (Board Order 1698, 75 FR 41819-41820, 7/19/10).

The zone currently consists of 23 sites (692.55 acres): Site 1 (224.32 acres total)—five parcels within the International Trade Center grounds in Guaynabo; Site 2 (11 acres, sunset 10/31/12)—North Distribution Center, located at Km. 1.1 on Highway 869, Cataño; Site 3 (15 acres, sunset 10/31/12)—Cataño Equipment and Storage Complex, intersection of Highway 165 and Las Palmas Avenue, Cataño; Site 4 (2 acres, sunset 10/31/14)—Bayamon Logistics, Storage and Distribution Center, intersection of Calle C and Highway 28, Bayamón; Site 5 (17.38 acres total, sunset 10/31/12)—five parcels within the Corujo Industrial Park in Bayamón; Site 6 (4 acres, sunset 10/31/12)—warehouse facilities located on the north side of Highway 2, one mile east of Highway 165, Toa Baja; Site 7 (2 acres, sunset 10/31/12)—Baldioroty de Castro Warehouse and Distribution Center, located at intersection of Km 10.3, Marginal de la Avenida de Baldioroty de Castro, Carolina; Site 8 (5 acres, sunset 10/31/14)—Manatí chemical warehouse, intersection of Highways 686 and 670, Manatí; Site 9 (7 acres, sunset 10/31/14)—warehouse facilities located at Km 28.6 on Highway 1, Caguas; Site 10 (15 acres, sunset 10/31/12)—storage complex at J.F. Kennedy Avenue and Km 3.9, San Juan; Site 11 (32 acres)—Mayaguez Regional Distribution Center, 201 Algarrobo Avenue, Mayagüez; Site 12 (4.4 acres)—Yabucoa Port Facility, located east of PR Road 53 on PR Road 9914 at the Port of Yabucoa, Yabucoa; Site 13 (3 acres)—Benitez Group and Sedeco Discount, Inc., State Road 3, Km 77.2, Barrio Abajo, Humacao; Site 14 (5.96 acres, sunset 6/30/15)—Angora Industrial Park, Rd #1, Km 32.6, Bairoa Avenue, Caguas; Site 15 (8.73 acres, sunset 6/30/15)—two parcels within the Royal Industrial Park in Cataño; Site 16 (0.78 acres, sunset 6/30/15)—Benitez Commercial Complex, Rd #1, Km 32.9, Bairoa Avenue, Caguas; Site 17 (7 acres)—warehouse building located at Road #5, Km 4.0, Barrio Palmas, Cataño; Site 18 (300.6 acres)—Yabucoa Industrial Park, located on Puerto Rico Road 2, Km 92.0 in the Agucate district, Yabucoa; Site 19 (1.95 acres total)—two parcels within the Palmas Industrial Zone in Cataño; Site 20 (2.25 acres)—warehouse/storage facility located at Km 30.6 and PR #1, Caguas; Site 21 (5.11 acres)—Mercado Central, Calle C #1229, Puerto Nuevo; Site 22 (1.17 acres)—Autogermana Inc., 275 Cesar Gonzalez Avenue, San Juan; and, Site 23 (16.9 acres, expires 8/31/14)—Rooms To Go, Road #2, Km 19.1, Bo. Candelario, Toa Baja.

The applicant is requesting authority to expand the zone to include a site at the Rafael Hernández Airport in Aguadilla (Proposed Site 24—1,124.03 acres). The site will provide warehousing and distribution services to area businesses. No specific manufacturing authority is being requested at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is January 17, 2012. Rebuttal comments in response to material submitted during the foregoing period may be submitted during the subsequent 15-day period to January 30, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz.

For further information, contact Camille Evans at Camille.Evans@trade.gov or (202) 482-2350.

Dated: November 9, 2011.
Andrew McGilvray,
Executive Secretary.

[FR Doc. 2011-29501 Filed 11-14-11; 8:45 am]

BILLING CODE P